DEPARTMENT OF AGRICULTURE

Farm Service Agency

Request for Extension of a Currently Approved Information Collection; End-Use Certificate Program

AGENCY: Farm Service Agency, USDA.

ACTION: Notice and request for comments.

SUMMARY: In accordance with the Paperwork Reduction Act of 1995, the Farm Service Agency (FSA) is seeking comments from all interested individuals and organizations on an extension of a currently approved information collection that supports the End-Use Certificate Program.

DATES: Comments on this notice must be received on or before January 12, 2009 to be assured consideration. Comments received after that date will be considered to the extent practicable.

ADDRESSES: We invite you to submit comments on this notice. In your comments, include date, volume and page number of this issue of the Federal Register. You may submit comments by any of the following methods:

Mail: Sharon Miner, USDA, Farm Service Agency, Commodity Operations Division, 1400 Independence Avenue, SW., STOP 0553, Washington, DC 20250-0553.

E-mail: Send comment to: Sharon.Miner@wdc.usda.gov.

Fax: (202) 690-3123.

Comments also should be sent to the Desk Officer for Agriculture, Office of Information and Regulatory Affairs, Office of Management and Budget, Washington, DC 20503.

FOR FURTHER INFORMATION CONTACT: Sharon Miner, Commodity Operations Division, telephone (202) 720-6266.

SUPPLEMENTARY INFORMATION: Title: End-Use Certificate Program.

OMB Control Number: 0560-0151.

Expiration Date of Approval: June 30, 2009.

Type of Request: Extension.

Abstract: This information collection is to ensure that Canadian wheat imported into the U.S. does not benefit from United States export programs. To comply with the provisions of the North American Free Trade Agreement Implementation Act, FSA requires information from the importers, subsequent buyers, and end-users that assist in tracking the Canadian wheat within the U.S. marketing system.

Estimate of Burden: Public reporting burden for this information collection is estimated to average 0.1744 hours per response.

Respondents: Wheat importers, traders, and end-users.

Estimated Number of Respondents: 421.

Estimated Number of Responses per Respondent: 128.

Estimated Total Annual Burden on Respondents: 4,520 hours.

Comments are invited on:

(1) Whether the continued collection of information is necessary for the proper performance of the functions of the agency, including whether the information will have practical utility;

(2) The accuracy of the FSA's estimate of burden including validity of the methodology and assumptions used;

(3) Enhancing the quality, utility, and clarity of the information collected; or

(4) Minimizing the burden of the collection of the information on those who are to respond, including the use of appropriate automated, electronic, mechanical, or other technological collection techniques or other forms of information technology.

All comments received in response to this notice, including names and addresses when provided, will become a matter of public record. Comments will be summarized and included in the submission for Office of Management and Budget approval.

Signed in Washington, DC on November 5, 2008.
Thomas B. Hofeller,
Acting Administrator, Farm Service Agency.

[FR Doc. E8-26853 Filed 11-10-08; 8:45 am]

BILLING CODE 3410-05-P